DEPARTMENT OF HEALTH AND HUMAN SERVICES

Centers for Disease Control and Prevention (CDC)

Request for Nominations of Candidates To Serve on the Citizens Advisory Committee on Public Health Service Activities and Research at Department of Energy Sites: Savannah River Site Health Effects Subcommittee

The Centers for Disease Control and Prevention and the Agency for Toxic Substances and Disease Registry are soliciting additional nominations for possible membership on the Citizens Advisory Committee on Public Health Service Activities and Research at Department of Energy (DOE) Sites: Savannah River Site Health Effects Subcommittee.

The Subcommittee is charged with providing advice and recommendations to the Director, CDC and Administrator, ATSDR, pertaining to CDC's and ATSDR's public health activities and research at respective DOE sites. Activities shall focus on providing the public and sovereign nations with a vehicle to express concerns and provide advice and recommendations to CDC and ATSDR. The Savannah River Site Health Effects Subcommittee (SRSHES) was established to advise the ATSDR and CDC on human health studies and public health activities that the agencies may undertake to address human exposures to historical releases of hazardous materials from the Savannah River Site. CDC and ATSDR are seeking candidates with an interest in science, and a knowledge and understanding of community needs relative to environmental health. Close attention will be given to minority and female representation so long as the effectiveness of the Subcommittee is not impaired.

Nominations for new members will be accepted by fax or written correspondence. Information must include a description the qualifications of the nominee to serve, the assets the nominee would bring to the work of the Subcommittee and a current resume or curriculum vitae. The closing date for this round of nominations is January 26, 2001. Nominations must be postmarked on or before the closing date.

Nominations should be sent to: Ms. Kitty Armstrong, Senior Committee Management Specialist, Radiation Studies Branch, Division of Environmental Hazards and Health Effects, National Center for Environmental Health, 1600 Clifton Road, NE., Mail Stop E-39, Atlanta, Georgia 30333. Nominations may be faxed to 404/639-2575.

The Director, Management Analysis and Services Office, has been delegated the authority to sign Federal Register notices pertaining to announcements of meetings and other committee management activities, for both CDC and ATSDR.

Dated: January 2, 2001.
Carolyn J. Russell,
Director, Management Analysis and Services Office, Centers for Disease Control and Prevention.

[FR Doc. 01-423 Filed 1-5-01; 8:45 am]

BILLING CODE 4163-70-P